DEPARTMENT OF THE INTERIOR

Surface Mining Reclamation and Enforcement

30 CFR Part 750

Surface Coal Mining and Reclamation Operations; Permit fees

CFR Correction

In Title 30 of the Code of Federal Regulations, parts 700-end, revised as of July 1, 1999, on page 168, in the second column of §750.25(d), the last line of the table was inadvertently omitted and should read as follows:

§ 750.25 Permit fees.

* * * * *

(d) Fee schedule for a new permit.

* * * | * * *
Decision document | 2000.00

[FR Doc. 00-55511 Filed 6-26-00; 8:45 am]

BILLING CODE 1505-01-D